CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning the proposed renewal of its AmeriCorps*VISTA Project Application and Instructions (OMB Control Number 3045-0038),

This reinstatement with changes reflects the Corporation's intent to modify selected sections of the collection instrument to better capture appropriate information for use in selecting organizations to serve as VISTA sponsors, while reducing applicant burden.

DATES: Written comments must be submitted to the office listed in the ADDRESSES section December 10, 2007.

ADDRESSES: You may submit comments, identified by the title of the information collection activity, by any of the following methods:

(1) By mail sent to: Corporation for National and Community Service, Attn. Paul Davis, Director of Program Development, Room 9107, 1201 New York Avenue, NW., Washington, DC 20525.

(2) By hand delivery or by courier to the Corporation's mailroom at Room 8100 at the mail address given in paragraph (1) above, between 9 a.m. and 4 p.m. Monday through Friday, except Federal holidays.

(3) By fax to: (202) 565-2789, Attention Mr. Paul Davis, Director of Program Management.

(4) Electronically through the Corporation's e-mail address system: pdavis@cns.gov.

FOR FURTHER INFORMATION CONTACT: Paul Davis, (202) 606-6608 or by e-mail at pdavis@cns.gov.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and,

• Minimize the burden of the collection of information on those who are to respond, including through the use of appropriate automated, electronic, mechanical, or other technological collection techniques or other forms of information technology (e.g., permitting electronic submissions of responses).

Background

The AmeriCorps*VISTA Project Application and Instructions is used by the Corporation in the selection of VISTA sponsors and in the approval of both new and renewing VISTA projects. The information collection consists of a brief Concept Paper, and, if the Concept Paper is approved, a full application including budget.

Current Action

The Corporation seeks to revise the previously used Project Application to: (a) Better align the information requested on the Concept Paper and the Application; and (b) simplify the project plan while continuing to provide a robust tool for evaluating project performance.

Type of Review: Renewal.

Agency: Corporation for National and Community Service.

Title: AmeriCorps*VISTA Project Application and Instructions.

OMB Number: 3045-0038.

Agency Number: None.

Affected Public: AmeriCorps*VISTA project applicants and sponsoring organizations seeking project renewal.

Total Respondents: 3,200 for the concept paper; 1,000 for the full application.

Frequency: One time.

Average Time per Response: 2 hours for Concept Paper; 15 hours for application.

Estimated Total Burden Hours: 21,400 hours.

Total Burden Cost (capital/startup): None.

Total Burden Cost (operating/maintenance): None.

Comments submitted in response to this notice will be summarized and/or included in the request for Office of Management and Budget approval of the information collection request; they will also become a matter of public record.

Dated: October 1, 2007.
Jean Whaley,
Director, AmeriCorps*VISTA.

[FR Doc. E7-19736 Filed 10-5-07; 8:45 am]

BILLING CODE 6050-$$-P